NATIONAL SCIENCE FOUNDATION

Proposal Review Panel for Chemistry; Notice of Meeting

In accordance with the Federal Advisory Committee Act (Pub. L. 92-463, as amended), the National Science Foundation announces the following meeting.

Name: Centers for Chemical Innovation (CCI) Phase I Cyber Review Panel, Proposal Review Panel for Chemistry, #1191.

Dates & Times: February 23, 2010; 8:30 a.m.-4:30 p.m. February 24, 2010; 8:30 a.m.-4 p.m.

Place: NCSA ACCESS (National Center for Supercomputing Applications); 901 N. Stuart Street #800, Arlington, VA 22203.

Type of Meeting: Part-open.

Contact Person: Dr. William Brittain, Program Director, Chemistry Centers Program, Division of Materials Research, Room 1055, National Science Foundation, 4201 Wilson Boulevard, Arlington, VA 22230, (703) 292-5039.

Purpose of Meeting: Review progress of Phase I CCI awards.

Agenda

Tuesday, Feb 23, 2010 (All Times Eastern)

8:30-9:30, Closed Charge to Panel, instructions and discussion

9:30-12, Open Presentation from “Center for Molecular Interfacing”

12-12:30, Closed Discussions (NSF, panel, CMI)

12:30-1:30, Lunch

1:30-4, Open Presentation from “Center for Green Materials Chemistry (CGMC)”

4-4:30, Closed Discussions (NSF staff, panel, CGMC)

4:30-5:30, Closed Panel discussions and work on panel summaries

Wednesday, Feb 24, 2010 (All Times Eastern)

8:30-9, Closed Panel discussions

9:00-11:30, Open Presentation from “Center for the Chemistry of the Universe (CCU)” (NSF staff, panel, CCU)

12:00-12:30, Closed Discussions (NSF staff, panel, CCU)

12:30-4, Closed Lunch, panel summaries, Panel discussions, finalizing summary reports

Reason for Closing: Topics to be discussed and evaluated during the site review will include information of a proprietary or confidential nature, including technical information; and information on personnel. These matters are exempt under 5 U.S.C. 552b(c), (4) and (6) of the Government in the Sunshine Act.

Dated: January 19, 2010.
Susanne Bolton,
Committee Management Officer.

[FR Doc. 2010-1266 Filed 1-22-10; 8:45 am]

BILLING CODE 7555-01-P